DEPARTMENT OF ENERGY

Federal Energy Regulatory Commission

[Project No. 6142-008]

Bradley D. Reeves, Kevin Drone; Notice of Termination of Exemption by Implied Surrender and Soliciting Comments, Protests, and Motions To Intervene

Take notice that the following hydroelectric proceeding has been initiated by the Commission:

a. Type of Proceeding: Termination of exemption by implied surrender

b. Project No.: 6142-008

c. Date Initiated: April 16, 2015

d. Exemptees: Bradley D. Reeves and Kevin Drone

e. Name and Location of Project: The Dardanelles Creek Hydroelectric Project is located on the Dardanelles and Pond Creeks, in Placer County, California, on federal lands managed by the U.S. Department of the Interior's Bureau of Land Management (BLM) and Bureau of Reclamation (BOR).

f. Issued Pursuant to: 18 CFR 4.106 (Standard Article 1 of the Exemption)

g. Exemptee Contact Information: Bradley D. Reeves, 6335 Broken Bow Court Foresthill, CA 95631, (916) 887-1443, and Kevin Drone, 22234 Todd Valley Road Foresthill, CA 95631, (530) 863-3643 Or c/o Sackheim Consulting, 5096 Cocoa Palm Way, Fair Oaks, CA 95628, (301) 401-5978.

h. FERC Contact: M. Joseph Fayyad, (202) 502-8759, mo.fayyad@ferc.gov.

i. Deadline for filing comments, motions to intervene and protests, is 30 days from the issuance date of this notice. The Commission strongly encourages electronic filing. All documents may be filed using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. Please include the project number (P-6142-008) on any comments, motions to intervene, protests, or recommendations filed.

j. Description of Project Facilities: (1) A 5-foot-high by 20-foot-long diversion structure on Dardanelles Creek and a 2-foot-high by 8-foot-long diversion structure on Pond Creek; (2) a 8-inch-diameter, 4,000-foot-long conduit from Dardanelles Creek, and a 2-foot-wide, 2,700-foot-long ditch from Pond Creek; (3) a settling basin, 60-foot-long, 30-foot-wide, and 8-foot-deep; (4) a 6-inch-diameter, 1,660-foot-long penstock; (5) a powerhouse with a single Canyon turbine unit rated at 224 kilowatts (kW), and connected to a Toshiba induction generator rated at 240 kW; and (6) appurtenant facilities.

k. Description of Proceeding: The exemptee is in violation of Standard Article 1 of its exemption, which was granted on October 8, 1982 (21 FERC ¶62,018). Article 1 provides, among other things, that the Commission may terminate an exemption if any term or condition of the exemption is violated.

Commission records show The Dardanelles Creek Hydroelectric Project has been non-operational since before 2009. The project is located on lands managed by the Bureau of Land Management (BLM) and the Bureau of Reclamation (BOR) and has ongoing compliance issues with both agencies. By letter dated September 26, 2011, BLM copied the Commission on a fully executed duplicate original 5-year license (permit to use federal lands) to Mr. Bradley Reeves, exemptee for the project. On October 17, 2011, Mr. Reeves advised the Commission that he had sold the project to Mr. Kevin Drone as of September 15, 2011. By letter dated October 28, 2011, to the new owner, Mr. Drone, the Commission requested the filing of documentation he has the rights to use or occupy the federal lands affected by the project, and a plan and schedule for making the project operational. On March 6, 2012, Mr. Drone filed a letter with the Commission stating he declined the exemption transfer until Mr. Reeves resolves non-compliance and outstanding debt liability issues. Commission, BLM, and BOR staff has tried to contact both parties. The parties have shown no movement towards restoring project operation or removing abandoned equipment, and no longer claim ownership of the project. Last correspondence with Mr. Reeves was returned with no forwarding address. The Commission is pursuing an implied surrender of the exemption due to noncompliance with its Standard Article 1. Doing so will also facilitate the BLM and/or the BOR efforts to pursue legally the current and/or the previous owner of the project.

l. This notice is available for review and reproduction at the Commission in the Public Reference Room, Room 2A, 888 First Street NE., Washington, DC 20426. The filing may also be viewed on the Commission's Web site at http://www.ferc.gov/docs-filing/elibrary.asp. Enter the Docket number (P-6142-008) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

m. Individuals desiring to be included on the Commission's mailing list should so indicate by writing to the Secretary of the Commission.

n. Comments and Protests—Anyone may submit comments, protests or a motion to intervene in accordance with the requirements of Rules of Practice and Procedure, 18 CFR 385.210 and 385.211. In determining the appropriate action to take, the Commission will consider all protests or other comments filed, but only those who file a motion to intervene in accordance with the Commission's Rules may become a party to the proceeding. Any comments, protests, or motions to intervene must be received on or before the specified deadline date for the particular proceeding.

o. Filing and Service of Responsive Documents—Any filing must (1) bear in all capital letters the title “COMMENTS, PROTEST, or MOTION TO INTERVE”, as applicable; (2) set forth in the heading the project number of the proceeding to which the filing responds; (3) furnish the name, address, and telephone number of the person commenting or protesting; and (4) otherwise comply with the requirements of 18 CFR 385.2001 through 385.2005. All comments, protests, or motion to intervene must set forth their evidentiary basis and otherwise comply with the requirements of 18 CFR 4.34(b). All comments or protests should relate to project works which are the subject of the termination of exemption. A copy of any protest must be served upon each representative of the exemptee specified in item g above. A copy of all other filings in reference to this notice must be accompanied by proof of service on all persons listed in the service list prepared by the Commission in this proceeding, in accordance with 18 CFR 4.34(b) and 385.2010.

p. Agency Comments—Federal, state, and local agencies are invited to file comments on the described proceeding. If any agency does not file comments within the time specified for filing comments, it will be presumed to have no comments.

Dated: April 16, 2015.
Kimberly D. Bose,
Secretary.

[FR Doc. 2015-09751 Filed 4-27-15; 8:45 am]

BILLING CODE 6717-01-P